DEPARTMENT OF AGRICULTURE

Forest Service

Northern Sierra Forest Plan Amendment EIS: Humboldt-Toiyabe National Forest, Stanislaus National Forest, Lake Tahoe Basin Management Unit: Carson City, Douglas, and Washoe Counties, Nevada and Alpine, Eldorado, Nevada, Sierra, Lassen, and Toulumne Counties, California

AGENCY: Forest Service, USDA.

ACTION: Supplement of a notice of intent to revise expected public comment availability, clarify the forest plans amended, and identify changes in the scope of the amendment.

SUMMARY: This Federal Register notice revises the Notice of Intent published in the November 10, 1998 Federal Register Vol. 63, No. 217, Pages 63023-63024. The agency expects to file the draft EIS with the Environmental Protection Agency and make it available for public comment in May, 2000.

In addition to comprehensive amendment of the Toiyabe Land and Resource Management plan for the Carson Ranger District, the EIS will address amendment of the Stanislaus Land and Resource Management Plan for management of that portion of the Carson Iceberg Wilderness Area in the Stanislaus National Forest and the Lake Tahoe Basin Land and Resource Management Plan for management of that portion of the Mount Rose Wilderness Area in the Lake Tahoe Basin Management Unit.

Based on public input and further analysis, the scope of the amendment for the Toiyabe Plan has been modified from that published in the original notice. Topics to be included are now: (1) Improving public access, (2) enhancing recreation opportunities and reducing user conflicts, (3) protecting scenery along scenic corridors and as a backdrop the areas communities, (4) preserving wilderness character, (5) protecting watersheds, (6) enhancing ecosystem integrity and biodiversity, (7) improving the landownership pattern, (8) protecting and interpreting heritage resources, (9) managing American Indian religious and cultural uses in a government-to-government relationship with tribes, (10) providing for harvest of forest products to achieve ecosystem integrity goals, (11) managing livestock grazing to ensure long-term ecological sustainability, (12) managing mining to protect scenic and other resources, and (13) providing for development of special use facilities compatible with scenic integrity and other resource objectives.

FOR FURTHER INFORMATION CONTACT: David Loomis, Sierra Ecosystem Planner, 1536 South Carson Street, Carson City, NV 89701, phone 775 884-8132.

Dated: March 21, 2000.
Karen Shimamoto,
Deputy Forest Supervisor, Humboldt-Toiyabe National Forest.

[FR Doc. 00-8132 Filed 3-31-00; 8:45 am]

BILLING CODE 3410-11-M